NUCLEAR REGULATORY COMMISSION

Proposed Generic Communication; Establishing and Maintaining a Safety Conscious Work Environment; Correction

AGENCY: Nuclear Regulatory Commission.

ACTION: Notice of opportunity for public comment; correction.

SUMMARY: This document corrects a notice appearing in the Federal Register on October 14, 2004 (69 FR 61049), that requests public comment on a guidance document for licensees on establishing and maintaining a safety conscious work environment. This action is necessary to correct an erroneous Web site.

FOR FURTHER INFORMATION CONTACT: Lisamarie Jarriel, Agency Allegations Advisor, Office of Enforcement, U.S. Nuclear Regulatory Commission, Washington, DC 20555-0001, (301) 415-8529, email LLJ@nrc.gov.

SUPPLEMENTARY INFORMATION: On page 61049, in the second column, in the second complete paragraph, in the last sentence, the Web site is corrected to read, “http://www.nrc.gov/what-we-do/regulatory/allegations/scwe-guide.html.”

Dated at Rockville, Maryland, this 21st day of October 2004.
For the Nuclear Regulatory Commission.
Michael T. Lesar,
Federal Register Liaison Officer.

[FR Doc. 04-24015 Filed 10-26-04; 8:45 am]

BILLING CODE 7590-01-P